DEPARTMENT OF ENERGY

U.S. Energy Information Administration

Agency Information Collection Extension

AGENCY: U.S. Energy Information Administration (EIA), Department of Energy (DOE).

ACTION: Notice and request for comments.

SUMMARY: EIA requests a three-year extension with changes for the Petroleum Supply Reporting System (PSRS). The PSRS consists of six weekly surveys that make up the Weekly Petroleum Supply Reporting System (WPSRS), eight monthly surveys, and one annual survey. The weekly petroleum and biofuels supply surveys collect data on petroleum refinery operations, blending, biofuels production, inventory levels, imports of crude oil, petroleum products, and biofuels from samples of operating companies. The monthly and annual petroleum and biofuels supply surveys collect data on petroleum refinery operations, blending, biofuels production, natural gas plant liquids production, inventory levels, imports, inter-regional movements, and storage capacity for crude oil, petroleum products, and biofuels.

DATES: EIA must receive all comments on this proposed information collection no later than February 25, 2019. If you anticipate any difficulties in submitting your comments by the deadline, contact the person listed in the ADDRESSES section of this notice as soon as possible.

ADDRESSES: Send written comments to Michael Conner, Petroleum, Natural Gas, and Biofuels Statistics, U.S. Energy Information Administration, Forrestal Building, U.S. Department of Energy, 1000 Independence Ave. SW, EI-25 Washington, DC 20585. Submission via email to michael.conner@eia.gov is recommended.

FOR FURTHER INFORMATION CONTACT: Michael Conner, (202) 586-1795 email Michael.conner@eia.gov. The proposed forms and instructions are available on EIA's website at: https://www.eia.gov/survey/.

SUPPLEMENTARY INFORMATION: This information collection request contains:

(1) OMB No. 1905-0165;

(2) Information Collection Request Title: Petroleum Supply Reporting System;

(3) Type of Request: Renewal with changes;

(4) Purpose: EIA's PSRS is made up of Forms EIA-800 Weekly Refinery Report (previously the Weekly Refinery and Fractionator Report), EIA-802 Weekly Product Pipeline Report, EIA-803 Weekly Crude Oil Stocks Report, EIA-804 Weekly Imports Report, EIA-805 Weekly Bulk Terminal Report (previously the Weekly Bulk Terminal and Blender Report), EIA-809 Weekly Oxygenate Report, EIA-810 Monthly Refinery Report, EIA-812 Monthly Product Pipeline Report, EIA-813 Monthly Crude Oil Report, EIA-814 Monthly Imports Report, EIA-815 Monthly Bulk Terminal Report (previously the Monthly Bulk Terminal and Blender Report), EIA-816 Monthly Natural Gas Plant Liquids Report, EIA-817 Monthly Tanker and Barge Movement Report, EIA-819 Monthly Biofuel and Fuel Oxygenate Report (previously the EIA-819 Monthly Oxygenate Report and EIA-22M Monthly Biodiesel Production Report), and EIA-820 Annual Refinery Report. The purpose of the PSRS is to collect detailed petroleum industry data to meet EIA's mandates and energy data users' needs for credible, reliable, and timely energy information on production, receipts, inputs, movements, and stocks of crude oil, petroleum products, natural gas plant liquids, and related biofuels in the United States. This information is used to evaluate supply conditions for crude oil and refined petroleum markets. Forms EIA-800, EIA-802, EIA-803, EIA-804, EIA-805 and EIA-809 are designed to provide an early, initial estimate of weekly petroleum refinery operations, inventory levels, and imports of selected petroleum products. The WPSRS is the only comprehensive weekly government source of data about the current status of petroleum supply and disposition in the upstream petroleum markets for the United States. Forms EIA-810, EIA-812, EIA-813, EIA-814, EIA-815, EIA-816, EIA-817, and EIA-819 are designed to provide statistically reliable and comprehensive monthly information on petroleum refining operations to EIA, federal agencies, and the private sector for use in forecasting, policy making, planning, and analysis. Form EIA-820 is an annual survey that provides data on refinery capacities, fuels consumed, natural gas consumed as hydrogen feedstock, and crude oil receipts by method of transportation for operating and idle petroleum refineries (including new refineries under construction), and refineries that shutdown during the previous year.

(4a) Proposed Changes to Information Collection: The following changes are proposed to the data elements collected on surveys in the Petroleum Supply Reporting System (PSRS).

Forms EIA-800, EIA-802, EIA-803, EIA-804, EIA-805, EIA-810, EIA-812, EIA-813, EIA-814, EIA-815, EIA-816, EIA-817, EIA-819, EIA-820 (Except Form EIA-809)

EIA proposes to change the unit of measurement from thousand barrels to barrels. Petroleum and biofuel supply surveys are increasingly being used to track relatively small-volume products, such as E85 motor fuel and biofuels. In these cases, rounding to the nearest thousand barrels fails to capture reportable activity because the quantities are too small to round up to 1,000 barrels (i.e. fewer than 500 barrels) for a given period. EIA proposes to apply this change to all surveys within the PSRS, except Form EIA-809 where volumetric data on fuel ethanol will continue to be collected in gallons.

Forms EIA-800, EIA-802, EIA-804, EIA-805, EIA-810, EIA-812, EIA-814, EIA-815, EIA-817

EIA proposes to reduce the number of separate finished motor gasoline products from nine to six and reorganize motor fuel categories to track ethanol blending. The proposed six categories are:

○ Gasoline Not Blended with Ethanol (E0)

○ Gasoline Blended with Ethanol up to E10

○ Midblend Gasoline with Ethanol > (E10-E50)

○ Flex Fuel (E85) Blended with 51% to 83% Ethanol

○ Reformulated Blendstock for Oxygenate Blending (RBOB)

○ Motor Gasoline Blending Components

Finished motor gasoline is currently distinguished by the categories of reformulated and conventional gasoline. These categories were developed in 1995 to track production of finished motor gasoline in a framework consistent with EPA's Clean Fuel programs. EIA is proposing changes to finished motor gasoline product categories to emphasize the ethanol content of motor fuel and to provide more relevant data for current energy policy decisions. Reducing the number of finished motor gasoline categories from nine to six simplifies reporting requirements while maintaining essential information for policy analysis and market assessments of gasoline and other motor fuels.

The following additional changes are specific to each survey in the PSRS.

Form EIA-800

• Discontinue separate reporting of commercial and military grade kerosene-type jet fuel. EIA will continue to collect total kerosene-type jet fuel which includes both commercial and military fuel grades. EIA determined that the separate reporting of military and commercial grades of kerosene-type jet fuel has limited utility.

• Discontinue reporting total refinery input. The current requirement to report total refinery input is ambiguous and produces data of questionable accuracy. Add new rows, under the column headings for Input; Production; and Ending Stocks, to separately report unfinished oils, other biofuel and renewable fuel (excluding ethanol), hydrocarbon gas liquids (excluding propane), and total refinery olefins. Ethane, normal butane, isobutane, and natural gasoline will be reported as a single category under hydrocarbon gas liquids. This proposed change takes components of the current total input and separates them to clarify the data to be reported and improves data accuracy.

Form EIA-802

• Discontinue collection of stocks of refinery olefins. EIA determined that the collection of weekly data on stocks of refinery olefins is no longer needed.

• Add collection of total biofuels and renewable fuels excluding ethanol. Biofuels are increasingly important sources of U.S. fuel supplies. EIA has extensive weekly data for ethanol and needs additional weekly biofuel data to ensure that weekly fuel supply data are complete.

Form EIA-803

• Discontinue collection of combined crude oil stocks held in pipelines and tank farms and replace it with separate reporting of crude oil stocks held in tank farms and pipelines. Separate reporting of crude oil stocks held in pipelines and tank farms allows for a more accurate assessment of available crude oil supplies. Crude oil stocks held in pipelines are essentially unavailable because pipelines must remain full to operate.

• In Part 3, add separate reporting of crude oil stocks held in tank farms at Cushing, Oklahoma as either deliverable under NYMEX contract or not deliverable under NYMEX contract. Separate reporting of crude oil stocks at Cushing, Oklahoma that are deliverable under NYMEX contract provides improved market transparency.

• In Part 5, add separate reporting of crude oil receipts as foreign or domestic and report shipments by mode of transportation and whether those crude oil shipments were to U.S. locations or exported for the Strategic Petroleum Reserve (SPR).

• For waterborne shipments to U.S. locations, EIA proposes to add questions to identify the vessel and purchasing company of the crude oil. Shipments of crude oil from SPR are anticipated to continue for the next several years. EIA needs information on the shipments of crude oil to ensure that all barrels are accounted for in U.S. and regional statistics.

Form EIA-804

• Add collection of total biofuels and renewable fuels excluding ethanol. Biofuels are increasingly important sources of U.S. fuel supplies. EIA has extensive weekly data for ethanol and needs additional weekly biofuel data to ensure that weekly fuel supply data are complete.

Form EIA-805

• Discontinue collection of stocks of refinery olefins. EIA determined that the collection of weekly data on stocks of refinery olefins is no longer needed.

• Add a question in Part 3 Terminal Activity to report ending stocks of consumer and export grade propane separately from propane stored as part of a mix of natural gas liquids and propane that does not meet specifications for either consumer or export grade propane. This change allows EIA to accurately determine the availability of propane that is ready for distribution and delivery to the market and compare it to propane that requires fractionation or other processing before it can be delivered.

• Discontinue collection of data for Methyl Tertiary Butyl Ether (MTBE), Ethyl Tertiary Butyl Ether (ETBE), and other oxygenates. Stocks and other data for MTBE, ETBE, and other fuel oxygenates at refineries and terminals are no longer needed for EIA to assess U.S. and regional volumetric petroleum supply balances.

• Combine finished aviation gasoline and aviation gasoline blending components into a single product category. Production of aviation gasoline has declined over the years. Separate reporting of finished aviation gasoline and aviation gasoline blending components has limited utility. Combined reporting of aviation gasoline and aviation gasoline blending components is adequate to meet EIA data requirements.

• Discontinue collection of total input for blending operations. In Part 3, EIA proposes to add the reporting of biofuel and renewable fuel under the column headings Input, Production, and Ending Stocks. Add the collection of ethane, normal butane, isobutane, and natural gasoline as a single category under the column headings Input and Ending stocks. The current requirement for operators of product storage and blending terminals to report total input for blending operations has been a persistent source of confusion for survey respondents and has produced data of questionable accuracy and limited utility. This proposed change takes components of the current total input and separates them to clarify the data to be reported and improves accuracy of the data for analysis.

• Discontinue the separate reporting of propylene stocks. The collection of propylene stocks is no longer necessary to determine the propane component of combined propane and propylene stocks.

Form EIA-809

• Discontinue separate reporting of denatured and undenatured fuel ethanol. Report production and week-ending stocks of total fuel ethanol including denatured and undenatured fuel ethanol as a single category. The separate reporting of denatured and undenatured ethanol caused confusion among survey respondents and data quality issues. EIA can assess ethanol supply conditions by collecting total ethanol (combined denatured and undenatured) production.

Form EIA-810

• EIA proposes to replace the three residual fuel oil sulfur categories from: Less than 0.31% by weight; 0.31% by weight to 1% percent by weight; and greater than 1% by weight to four sulfur categories of:

1. Less than or equal to 1,000 ppm,

2. Greater than 1,000 ppm and less than or equal to 5,000 ppm,

3. Greater than 5,000 ppm and less than or equal to 10,000 ppm, and

4. Greater than 10,000 ppm.

The four proposed sulfur categories for residual fuel oil are required for consistency with current marine fuel specifications and trade statistics from the U.S. Census Bureau.

• In Part 6, replace the three current biofuel reporting categories of biomass-based diesel fuel, other renewable diesel fuel, and other renewable fuels to the categories biodiesel, renewable diesel fuel, renewable heating oil, renewable jet fuel, renewable naphtha and gasoline, and other renewable fuels and intermediate products. These changes clarify the products and improve the utility of U.S. and regional data by collecting data on the specific types of renewable fuels that are increasingly more important in petroleum refinery operations.

• Discontinue separate reporting of commercial and military grade kerosene-type jet fuel. EIA will only collect total kerosene-type jet fuel which includes both commercial and military fuel grades. EIA determined that the separate reporting of military and commercial grades of kerosene-type jet fuel has limited utility.

• In Part 6, discontinue collection of storage capacity for September 30th, but will continue to collect storage capacity once each year as of March 31st. EIA determined that storage capacity data collected once each year (as of March 31st) are adequate for policy analysis and assessing market supply conditions.

• In Part 6, rename the column heading idle storage capacity to temporarily out of service. EIA has found the phrase temporarily out of service to be more consistent than the term idle when describing storage capacity that is not in use at the time of reporting.

• In Part 5, discontinue collection of ending stocks including stocks held on site and stocks in transit by water and rail under the column heading Stocks End of Month. Add two columns for separately reporting Stocks on site end of month and Stocks in transit to the refinery by water or rail end of month. Current EIA reporting instructions provide for stocks in transit by water and rail to be included in ending stocks reported on EIA surveys. Examination of stocks data shows that stocks in transit by water and rail may be undercounted and vary between reporting periods. The combined reporting of stocks in transit with ending stocks also complicates the data validation process for surveys that require volumetric balances. Separate reporting of stocks in transit simplifies the data processing and validation for surveys that require volumetric balances such as Form EIA-810 and Form EIA-815.

• In Part 5, add collection of stocks, receipts, shipments, and fuel uses and losses separately for all individual hydrocarbon gas liquids (HGL) components. This change allows EIA to fully report hydrocarbon gas liquids. EIA currently estimates certain HGL data based on a model because separate data are unavailable. This change will replace the use of model-based estimates with actual data and allow EIA to generate more accurate supply estimates.

• In Part 5, provide space on the form for refinery operators to reclassify unfinished oils and other products as crude oil by reporting these products as production of crude oil. Refiners sometimes add unfinished oils and other non-crude oil barrels to crude oil inventory. This change will allow refiners to report this practice as additional production of crude oil so the volumes can be included in the overall refinery balance and not ignored.

• Add a new section, Part 6A Production of Renewable Fuels Co-Processed in the Refinery, to collect renewable fuels production co-processed with petroleum in refineries. EIA is collecting more detailed information in this section because the number of U.S. refiners processing renewable feedstocks with petroleum is increasing. Adding this section to Form EIA-810 allows EIA to assess supply and track production from this emerging energy production activity.

• Add a new section, Part 6B Consumption of Feedstocks for Renewable Fuels Production, to collect data on consumption of renewable feedstocks co-processed with petroleum in refineries. These data are required in order for EIA to provide a comprehensive accounting of renewable feedstocks for biofuel production.

Form EIA-812

• In Part 3, replace the three current biofuel reporting categories of biomass-based diesel fuel, other renewable diesel fuel, and other renewable fuels to the categories biodiesel, renewable diesel fuel, renewable heating oil, renewable jet fuel, renewable naphtha and gasoline, and other renewable fuels and intermediate products. These changes clarify the products and will improve the utility of U.S. and regional data by collecting data on the specific types of renewable fuels that are growing increasingly more important in petroleum operations.

• Discontinue collection of stocks of refinery olefins. EIA determined that the collection of data on stocks of refinery olefins is no longer needed.

• In Part 3, discontinue collection of residual fuel stocks and delete the row for residual fuel (product code 511). The data has shown that residual fuel oil is a product not typically moved by pipeline.

• In Part 4, discontinue collection of renewable fuel movements and delete the rows for fuel ethanol (product code 141), biomass-based diesel fuel (product code 203), other renewable diesel fuel (product code 205), and other renewable fuels (product code 207). EIA has found that inter-regional pipeline movements of these renewable fuels seldom occur and these data have limited utility for assessing fuel supply conditions.

Form EIA-813

• Discontinue collecting storage capacity information as of September 30th, but continue to collect storage capacity once each year as of March 31st. EIA determined that storage capacity data collected once each year (as of March 31st) are adequate for policy analysis and assessing market supply conditions.

• Parts 6 and 7 relating to storage capacity are re-numbered as Parts 8 and 9 in the new form.

• Rename the column heading Idle in the storage capacity sections in Parts 6 and 7 of the current form, to temporarily out of service in Parts 8 and 9 of the new form. EIA has found the phrase temporarily out of service to be more consistent than the term idle when describing storage capacity that is not in use at the time of reporting.

• Discontinue collection of ending stocks including stocks held on-site and stocks in transit by water and rail. Add reporting of stocks held on-site and stocks in transit by water and rail as separate reporting requirements in the facility activity section on Form EIA-813 Part 5. Current EIA reporting instructions provide for stocks in transit by water and rail to be included in ending stocks reported on EIA surveys. Examination of stocks data suggests that stocks in transit by water and rail are undercounted and can vary between reporting periods. The combined reporting stocks in transit with ending stocks also complicates the data validation process for surveys that require volumetric balances. Separate reporting of Stocks in Transit in Part 5 and Ending Stocks in Part 3 simplifies the data processing and validation for surveys that require volumetric balances such as Form EIA-810 and Form EIA-815.

• Discontinue collection of combined crude oil stocks held in pipelines and tank farms and replace with separate reporting of crude oil stocks held in tank farms and pipelines. In Part 4, separately reporting crude oil stocks held in pipelines and tank farms allows for a more accurate assessment of available crude oil supplies. Crude oil stocks held in pipelines are essentially unavailable because pipelines must remain full in order to operate.

• In Part 4, add collection of crude oil stocks held in tank farms at Cushing, Oklahoma as either deliverable under NYMEX contract or not deliverable under NYMEX contract. Separate reporting of crude oil stocks at Cushing, Oklahoma that are deliverable under NYMEX contract provides improved market transparency.

• In Part 6, add collection of crude oil receipts as foreign or domestic and collection of shipments by mode of transportation and whether those shipments were to U.S. locations or exported for waterborne shipments to U.S. locations. EIA proposes adding questions to identify the purchaser of the crude oil on Form EIA-813 Part 6. Shipments of crude oil from SPR are anticipated to continue for the next several years. EIA needs information on the shipments of crude oil to ensure that all of the barrels are accounted for in U.S. and regional statistics.

• Add collection of stocks on site, stocks in transit by water and rail, and storage capacity in PADD 6 including Puerto Rico and U.S. Virgin Islands in EIA-813 Parts 3, 5, and 8 respectively. EIA is required to account for non-refinery crude oil stocks held in U.S. territories.

• Discontinue the separate collection in Parts 6 and 7 of In operation storage capacity for exclusive use and leased to others. These two data elements will be collected together as a single data element under the row label In Operation Storage Capacity in Parts 8 and 9. EIA found that storage capacity data reported separately by capacity for exclusive use and capacity leased to others has limited utility and should be discontinued.

Form EIA-815

• In Part 3, replace the three residual fuel oil sulfur categories from:

○ Less than 0.31% by weight,

○ 0.31% by weight to 1% percent by weight,

○ greater than 1% by weight

to four proposed sulfur categories of:

1. less than or equal to 1,000 ppm,

2. greater than 1,000 ppm and less than or equal to 5,000 ppm,

3. greater than 5,000 ppm and less than or equal to 10,000 ppm, and

4. Greater than 10,000 ppm.

The four proposed sulfur categories for residual fuel oil are required for consistency with current marine fuel specifications and trade statistics from the U.S. Census Bureau.

• In Part 3, replace biofuel reporting categories identified on current surveys as biomass-based diesel fuel, other renewable diesel fuel, and other renewable fuels with the new categories biodiesel, renewable diesel fuel, renewable heating oil, renewable jet fuel, renewable naphtha and gasoline, and other renewable fuels and intermediate products. These changes clarify the products and improve the utility of U.S. and regional data.

• In Part 3 Terminal Activity, discontinue collection of stocks of refinery olefins. EIA determined that the collection of data on stocks of refinery olefins is no longer needed.

• In Part 3 Terminal Activity, discontinue the separate reporting of propylene stocks. Add a question in Part 3 to report ending stocks of consumer and export grade propane separately from propane stored as part of a mix of natural gas liquids and propane that does not meet specifications for either consumer or export grade propane. This change will help to clarify availability of propane that is ready for distribution and delivery to the market and propane that requires fractionation or other processing before it can be delivered.

• In Part 3, Terminal Activity, discontinue collection of data for MTBE, ETBE, and other oxygenates. Stocks and other data for MTBE, ETBE, and other fuel oxygenates at refineries and terminals are no longer needed for EIA to assess U.S. and regional volumetric petroleum supply balances. Production of MTBE, ETBE, and other fuel oxygenates will continue to be collected on Form EIA-819.

• In Part 3, Terminal Activity, discontinue the separate reporting of finished aviation gasoline and aviation gasoline blending components. These two categories will be combined. Report finished aviation gasoline and aviation gasoline blending components under a single product category. Production of aviation gasoline has declined over the years. Separate reporting of finished aviation gasoline and aviation gasoline blending components has limited utility. Combined reporting of aviation gasoline and aviation gasoline blending components is adequate to meet EIA data requirements.

• In Part 3 Terminal Activity, reconfigure the collection of normal butane and isobutane stocks to allow for the reporting of stocks of refinery-grade butane as either normal butane or isobutane. Refinery-grade butane can either be normal butane or isobutane. The reconfigured product list is intended to capture this distinction and eliminate confusion that may be caused by the current product list.

• In Part 3 Terminal Activity, discontinue collection of the subcategories of unfinished oils. The reporting of individual unfinished oils products at terminals has limited utility and is often difficult for terminal operators to accurately determine.

• In Part 3, discontinue collection of ending stocks including stocks held on site and stocks in transit by water and rail. Add reporting of stocks held on site and stocks in transit by water and rail as separate reporting requirements in the facility activity section. Current EIA reporting instructions provide for stocks in transit by water and rail to be included in ending stocks reported on EIA surveys. Examination of stocks data suggests that stocks in transit by water and rail are undercounted and can vary between reporting periods. The combined reporting of stocks in transit with ending stocks also complicates the data validation process for surveys that require volumetric balances. Separate reporting of stocks in transit simplifies the data processing and validation for surveys that require volumetric balances.

• EIA proposes to add a new section, Part 4 Petrochemical Plant Stocks of Natural Gas Liquids, to collect reporting of the stocks of ethane, propane, normal butane, isobutene, and natural gasoline natural gas liquids (NGL) held at petrochemical plants, EIA-815. Petrochemical plant operators are a special class of end user storage because they are able to function in ways that are similar to the commercial terminals surveyed by EIA. Including petrochemical plant storage improves data accuracy and improves market assessments of NGL supply availability.

• Storage capacity data collected in Part 4 of the current form will be collected in a new Part 5 section of the form. Discontinue collection of storage capacity twice a year and only collect it once. Reporting storage capacity as of September 30th will be discontinued. Storage capacity will only be collected once each year as of March 31st. EIA determined that storage capacity data collected once each year (as of March 31st) are adequate for policy analysis and assessing market supply conditions.

• In Part 5, the column label idle storage capacity is changed to temporarily out of service. EIA has found the phrase temporarily out of service to be more consistent than the term idle when describing storage capacity that is not in use at the time of reporting.

Form EIA-816

• Add reporting of stocks in transit by water and rail as separate reporting requirements in the facility activity section in addition to continuing to report Stocks End of Month. Current EIA reporting instructions provide for stocks in transit by water and rail to be included in ending stocks reported on EIA surveys. Examination of stocks data suggests that stocks in transit by water and rail are undercounted and can vary between reporting periods. The combined reporting of stocks in transit with ending stocks also complicates the data validation process for surveys that require volumetric balances. Separate reporting of stocks in transit simplifies the data processing and validation for surveys that require volumetric balances.

• In Part 3 Natural Gas Liquids Activity, add a separate row to collect data for condensate. Separate reporting of condensate allows EIA to better identify barrels that enter the NGL supply chain and the condensate barrels that are more likely to enter the crude oil supply chain.

• Add a new Part 4 to collect monthly volumes of inlet natural gas processed at the plant.

• Add a new Part 5 to collect monthly volumes of outlet residue gas separated out by methane, ethane, propane, nitrogen, and NGLs. The addition of data on inlet and residue natural gas improves EIA estimates of the reduction of natural gas supply due to NGL extraction. This data also improves market assessments by providing a measure of ethane and other NGL quantities that remain in natural gas after processing as well as providing an indicator of the heat content of marketed natural gas.

• Add a new Part 6 Isomerization Activity to collect volumes on the input of normal butane used for production of isobutane in Section 6.1. Section 6.1a will separately collect the volumes of normal butane sourced from natural gas processing plants and refineries. Form EIA-816 currently collects data on isomerization of normal butane to isobutane. Separating the normal butane sourced from gas plants and refineries will allow EIA to more accurately measure butane supply availability.

Form EIA-817

• In Part 3, replace the three residual fuel oil sulfur categories from:

○ Less than 0.31% by weight,

○ 0.31% by weight to 1% percent by weight,

○ greater than 1% by weight

to four proposed sulfur categories of:

1. 1,000 ppm sulfur or under,

2. 1,001 ppm-5,000 ppm sulfur,

3. 5,001 ppm-10,000 ppm sulfur, and

4. greater than 10,000 ppm sulfur.

The four proposed sulfur categories for residual fuel oil are required for consistency with current marine fuel specifications and trade statistics from the U.S. Census Bureau.

• In Part 3, replace biofuel reporting categories identified on current surveys as biomass-based diesel fuel, other renewable diesel fuels, and other renewable fuels to the proposed categories biodiesel, renewable diesel fuel, renewable heating oil, renewable jet fuel, renewable naphtha and gasoline, and other renewable fuels and intermediate products. These changes clarify the biofuel product categories and improve the utility of U.S. and regional data.

Form EIA-819

• In Parts 4, 6, 8, and 10, add reporting of stocks held on site and stocks in transit by water and rail as separate reporting requirement. In addition to continuing to report Stocks End of Month. Current EIA reporting instructions provide for stocks in transit by water and rail to be included in ending stocks reported on EIA surveys. Examination of stocks data suggests that stocks in transit by water and rail are undercounted and can vary between reporting periods. The combined reporting of stocks in transit with ending stocks also complicates the data validation process for surveys that require volumetric balances. Separate reporting of stocks in transit simplifies the data processing and validation for surveys that require volumetric balances.

• EIA proposes combining Forms EIA-22M and EIA-819 into a single survey under Form EIA-819 to cover all biofuels (including renewable fuels not currently tracked on any EIA survey), fuel oxygenates (ETBE, MTBE), and non-refinery producers of isooctane. The new survey will collect consistent volumetric balance data on petroleum and biofuel blending at biofuel production plants and feedstock inputs for all biofuels. The proposed new Form EIA-819 will also expand the scope of EIA biofuel data collection to include producers of renewable diesel fuel and other renewable fuels that are currently out of scope. All facilities will report production capacity as well as receipts, production, input, shipments, beginning and ending stocks, as well as stocks in transit to the facility at the end of the report month. Part 9 will collect consumption of feedstocks for production of biofuel and renewable fuels and annual fuels consumed at the facility. The proposed Form EIA-819 is intended to improve accuracy and consistency of biofuel and oxygenate production and blending including blending with petroleum fuels. EIA will discontinue Form EIA-22M since the same information that is currently reported on Form EIA-22M will be collected on the new Form EIA-819.

(5) Annual Estimated Number of Respondents: 4,640 total respondents:

EIA-800 consists of 125 respondents

EIA-802 consists of 46 respondents

EIA-803 consists of 80 respondents

EIA-804 consists of 100 respondents

EIA-805 consists of 745 respondents

EIA- 809 consists of 156 respondents

EIA-810 consists of 139 respondents

EIA-812 consists of 100 respondents

EIA-813 consists of 205 respondents

EIA-814 consists of 360 respondents

EIA-815 consists of 1,485 respondents

EIA-816 consists of 600 respondents

EIA-817 consists of 40 respondents

EIA-819 consists of 320 respondents

EIA-820 consists of 139 respondents

(6) Annual Estimated Number of Total Responses: 104,231 total responses.

(7) Annual Estimated Number of Burden Hours: 208,430 total hours.

(8) Annual Estimated Reporting and Recordkeeping Cost Burden: EIA estimates that there are no additional costs to respondents associated with the surveys other than the costs associated with the burden hours. The information collected on the forms is maintained by companies in their data systems during their normal course of business. The cost of burden hours to the respondents is estimated to $15,427,988 (208,430 burden hours times $74.02 per hour).

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on December 6, 2018.
Nanda Srinivasan,
Director, Office of Survey Development and Statistical Integration, U. S. Energy Information Administration.

[FR Doc. 2018-28062 Filed 12-26-18; 8:45 am]

BILLING CODE 6450-01-P